DEPARTMENT OF AGRICULTURE

Forest Service

DEPARTMENT OF THE INTERIOR

Fish and Wildlife Service

Southcentral Alaska Federal Subsistence Regional Advisory Council Meeting

AGENCY: Forest Service, USDA; Fish and Wildlife Service, Interior.

ACTION: Notice of meeting.

SUMMARY: This notice informs the public that the Southcentral Alaska Federal Subsistence Regional Advisory Council will hold a public meeting on December 8, 2006, at 3601 C Street, Suite 1030, Anchorage, Alaska. The public is invited to participate and to provide oral testimony.

DATES: The meeting will be held Friday, December 8, 2006, at 9 a.m., Alaska Standard Time.

FOR FURTHER INFORMATION CONTACT: Peter J. Probasco, Office of Subsistence Management, U.S. Fish and Wildlife Service, 3601 C Street, Suite 1030, Anchorage, Alaska 99503; telephone (907) 786-3888. For questions related to subsistence management issues on National Forest Service lands, contact Steve Kessler, Subsistence Program Leader, 3601 C Street, Suite 1030, Anchorage, Alaska 99503; telephone (907) 786-3592.

SUPPLEMENTARY INFORMATION: The Southcentral Alaska Subsistence Regional Advisory Council will meet at 3601 C Street, Suite 1030, Anchorage, Alaska on Friday, December 8, 2006, at 9 a.m., Alaska Standard Time, to establish a subcommittee with the charge of evaluating various options for providing a priority for the subsistence harvest of fish from the Federal public lands and waters of the Kenai Peninsula. This meeting is open to the public.

This meeting will be held with less than the normal 15-day notice. The holding of this meeting of the Southcentral Regional Council on December 8, 2006, is in the best interest of the public because there is an overwhelming need to establish a subcommittee to evaluate fishery issues on the Kenai Peninsula prior to the Southcentral Regional Council's next regularly scheduled meeting in mid-March. The timing would allow the newly established subcommittee time to evaluate various proposals, options and alternatives prior to the Southcentral Regional Council meeting in March.

Authority: Title VIII of the Alaska National Interest Lands Conservation Act (ANILCA), 16 U.S.C. 3101-3126.

Dated: November 21, 2006.
Peter J. Probasco,
Acting Chair, Federal Subsistence Board.

[FR Doc. 06-9425 Filed 11-27-06; 8:45 am]

BILLING CODE 3410-11-P; 4310-55-P